DEPARTMENT OF TRANSPORTATION

National Highway Traffic Safety Administration

[Docket No. NHTSA-2019-0040; Notice 2]

Kia Motors America, Inc., Grant of Petition for Decision of Inconsequential Noncompliance

AGENCY: National Highway Traffic Safety Administration (NHTSA), Department of Transportation (DOT).

ACTION: Grant of petition.

SUMMARY: Kia Motors America, Inc., and Kia Motors Corporation (collectively “Kia”), has determined that certain model year (MY) 2020 Kia Telluride motor vehicles do not fully comply with Federal Motor Vehicle Safety Standard (FMVSS) No. 110, Tire Selection and Rims and Motor Home/Recreation Vehicle Trailer Load Carrying Capacity Information for Motor Vehicles with a GVWR of 4,536 kilograms (10,000 pounds) or less. Kia filed a noncompliance report dated April 12, 2019, and subsequently petitioned NHTSA on April 18, 2019, for a decision that the subject noncompliance is inconsequential as it relates to motor vehicle safety. This notice announces the grant of Kia's petition.

FOR FURTHER INFORMATION CONTACT: Kerrin Bressant, Office of Vehicle Safety Compliance, the National Highway Traffic Safety Administration (NHTSA), telephone (202) 366-1110, facsimile (202) 366-5930.

SUPPLEMENTARY INFORMATION:

I. Overview

Kia has determined that certain MY 2020 Kia Telluride motor vehicles do not fully comply with paragraphs S4.3.3 of FMVSS No. 110, Tire Selection and Rims and Motor Home/Recreation Vehicle Trailer Load Carrying Capacity Information for Motor Vehicles with a GVWR of 4,536 kilograms (10,000 pounds) or less (49 CFR 571.110). Kia filed a noncompliance report dated April 12, 2019, pursuant to 49 CFR part 573, Defect and Noncompliance Responsibility and Reports, and subsequently petitioned NHTSA on

April 18, 2019, for an exemption from the notification and remedy requirement of 49 U.S.C Chapter 301 on the basis that this noncompliance is inconsequential as it relates to motor vehicle safety, pursuant to 49 U.S.C. 30118(d) and 30120(h) and 49 CFR part 556, Exemption for Inconsequential Defect or Noncompliance.

Notice of receipt of Kia's petition was published with a 30-day public comment period, on August 21, 2019, in the Federal Register (84 FR 43661). No comments were received. To view the petition and all supporting documents log onto the Federal Docket Management System (FDMS) website at https://www.regulations.gov/. Then follow the online search instructions to locate docket number “NHTSA-2019-0040.”

II. Vehicles Involved

Approximately 8,773 MY 2020 Kia Telluride motor vehicles manufactured between January 10, 2019, and March 27, 2019, are potentially involved.

III. Noncompliance:

Kia explains that the noncompliance is that the subject vehicles are equipped with Part 567 certification labels that are missing the value for the rim size as required by paragraph S4.3.3 of FMVSS No. 110. Specifically, the subject vehicles are equipped with 7.5Jx20 or 7.5Jx18 rims, however, the Part 567 certification labels are missing the “20” or “18” after the “7.5Jx.” The certification labels also contain a typo. The “i” in “psi” is missing in the section of the label, which identifies the corresponding tire inflation pressure.

IV. Rule Requirements

Paragraphs S4.3.3 of FMVSS No. 110 provide the requirements relevant to this petition. Each vehicle must show the size designation and, if applicable, the type designation of rims (not necessarily those on the vehicle) appropriate for the tire and appropriate for use on that vehicle, including the tire installed as original equipment on the vehicle by the vehicle manufacturer, after each GAWR listed on the certification label required by § 567.4 or § 567.5 of this chapter. This information should be in English, letters block capitals and numerals not less than 2.4 millimeters high and in the following format (Truck Example- Suitable Tire-Rim Choice):

GVWR: 2,441 kilograms (5381 pounds).

GAWR: Front-1,299 kilograms (2,864 pounds) with P265/70R16 tires, 16x8.0 rims at 248 kPa (36 psi) cold single.

GAWR: Rear-1,299 kilograms (2,864 pounds) with P265/70R16 tires, 16x8.00 rims at 248 kPa (36 psi) cold single.

V. Summary of Petition

Kia described the subject noncompliance and stated its belief that the noncompliance is inconsequential as it relates to motor vehicle safety.

In support of its petition, Kia contends that the information missing from the label is a minor omission without any adverse safety implications because the information is readily available from other sources.

1. Kia states, FMVSS No. 110 paragraph S4.3(d), requires that the tire and loading information placard state the tire size designation for the tires installed on the vehicle at the time of first purchase. On the affected vehicles, the FMVSS No. 110 tire and loading label (which is located directly adjacent to the certification label on the “B” pillar), contains the correct tire size dimensions, recommended cold tire inflation pressure, and vehicle capacity weight.

2. FMVSS No. 110, paragraph S4.3(f), also requires the tire and loading placard to state “See Owner's Manual for Additional Information.” The Owner's Manual for the 2020 Telluride provides the wheel rim and tire information, which the owner can easily refer to to confirm the correct tire pressure.

3. The consumer can also check the tire rims installed on the vehicle to determine the correct wheel rim size needed. Kia noted that FMVSS No. 110, paragraph S.4.4.2(b), requires each rim to identify, the rim size designation. The affected vehicles meet the requirements of this section.

4. Kia is not aware of any accidents or injuries related to the omitted tire rim size information or any typos regarding “psi” on the certification label, nor has it received contact from vehicle owners regarding this issue.

5. NHTSA has previously granted similar petitions for inconsequential noncompliance with FMVSS No. 110, paragraph S4.3.3, with respect to missing or incorrect information on the certification label. See e.g., Hyundai-Kia America Technical Center, Inc., Grant of Petition for Decision of Inconsequential Noncompliance, 78 FR 38445 (June 26, 2013) [granting petition where certification labels on certain MY 2012 Hyundai Veracruz vehicles were missing tire size designation information entirely]; Chrysler Group, LLC, Grant of Petition for Decision of Inconsequential Noncompliance, 78 FR 38443 (June 26, 2013) [granting petition where certification labels in certain MY 2011 Chrysler Town and Country and Dodge Grand Caravan vehicles incorrectly identified tire size]; and BMW of North America, LLC., Grant of Petition for Decision of Inconsequential Noncompliance, 78 FR 76408 (December 17, 2013) [granting petition were certification lab is in certain MY 2012 X3 SAV vehicles contained incorrect tire and rim information for the tires and rims installed as original equipment].

Kia concludes that the subject noncompliance is inconsequential as it relates to motor vehicle safety and that its petition to be exempted from providing notification of the noncompliance, as required by 49 U.S.C. 30118, and a remedy for the noncompliance, as required by 49 U.S.C. 30120, should be granted.

VI. NHTSA's Analysis

The intent of FMVSS No. 110 is to specify requirements for tire selection to prevent tire overloading. In addition, for vehicles other than passenger cars, each vehicle shall show the size designation and, if applicable, the type designation of rims (not necessarily those on the vehicle) appropriate for the tire appropriate for use on that vehicle, including the tire installed as original equipment on the vehicle by the vehicle manufacturer after each GAWR listed on the certification label required by 567.4 or 567.5 of this chapter.

The missing rim size information (specifically the “rim diameter”) may readily be obtained from several additional sources typically found on and required to be furnished with the vehicle. The rim size is marked on the rims either impressed or embossed. The rim dimensions may also be found in the owners' manual which is referenced as an information source by the tire and loading information placard which is positioned adjacent to the certification label and is yet another source for tire and rim dimension information.

FMVSS 110 S4.4.2(b) requires that each rim be marked with the rim size designation. By way of pictures taken of tire rims of affected vehicles, Kia shows that the affected vehicles are equipped with rims that are marked with the rim size and meet the requirements of this section.

The tire placard required by FMVSS 110 S4.3(d) requires that the tire size designation be provided for the tires installed at the time of the first purchase and FMVSS 110 S4.3(f) requires that the placard state “See Owner's Manual for Additional Information.” Based on supplied exemplar pictures submitted by Kia, the affected vehicles meet the requirements of FMVSS 110 S4.3

NHTSA has historically granted petitions for inconsequentiality for inaccurate tire placards where the grantee has supplied sufficient reasoning to support such a conclusion. In addition, Kia has informed NHTSA that it has corrected future production and that those vehicles will comply with FMVSS 110 S4.3.3.

VII. NHTSA's Decision

In consideration of the foregoing, NHTSA has decided that Kia has met its burden of persuasion that the failure to provide the wheel size information and the “i” in psi, as required by paragraph S4.3 of FMVSS No. 110, is inconsequential to motor vehicle safety. Accordingly, Kia's petition is granted, and it is exempted from the obligation of providing the notification of, and a free remedy for, the noncompliance under 49 U.S.C. 30118, and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject vehicles that Kia no longer controlled at the time it determined that the noncompliance existed. However, the granting of this petition does not relieve vehicle distributors and dealers of the prohibitions on the sale, offer for sale, or introduction or delivery for introduction into interstate commerce of the noncompliant vehicles/wheels under their control after Kia notified them that the subject noncompliance existed.

(Authority: 49 U.S.C. 30118, 30120: Delegations of authority at 49 CFR 1.95 and 501.8)

Otto G. Matheke III,
Director, Office of Vehicle Safety Compliance.

[FR Doc. 2020-14213 Filed 6-30-20; 8:45 am]

BILLING CODE 4910-59-P